DEPARTMENT OF ENERGY

Federal Energy Regulatory Commission

[Docket Nos. PH06-11-000; PH06-12-000; PH06-13-000; PH06-14-000; PH06-15-000; PH06-16-000; PH06-17-000; PH06-18-000; PH06-19-000; PH06-20-000; PH06-21-000; PH06-22-000; PH06-23-000; PH06-24-000; PH06-25-000; PH06-26-000; PH06-27-000; PH06-28-000; PH06-29-000; PH06-30-000; PH06-31-000; PH06-32-000; PH06-33-000; PH06-34-000; PH06-35-000; PH06-36-000; PH06-37-000; PH06-38-000; PH06-39-000]

MGE Energy, Inc.; DTE Energy Company; Energy, Inc.; Alpena Power Resources, LTD; Alaska Energy and Resources Company; National Grid Holdings One Plc; RGC Resources, Inc.; RGC Resources, Inc.; Deutsche Bank AG, et. al.; DTE Energy Company; Consolidated Energy Holdings LLC; Macquarie Bank Limited; IPALCO Enterprises; Utility Pipeline Limited; Alliant Energy Generation, Inc.; Nstar; Maine & Maritimes Corporation; Wisconsin Energy Corporation; Wisconsin Electric Power Company; BayCorp Holdings, Ltd.; UniSource Energy Corporation, et. al.; Alexander & Baldwin, Inc., et. al.; LMB Capital, Inc.; Hawkeye Funding, Inc.; Juniper Capital GP, LLC; JMG Capital, Inc.; Wygen Capital, Inc.; LIC Capital, Inc.; Alexander's of Brooklyn II, LLC; Notice of Effectiveness of Holding Company and Transaction Exemptions and Waivers

June 15, 2006.

Take notice that in May 2006 the holding company and transaction exemptions and waivers requested in the above-captioned proceedings are deemed to have been granted by operation of law pursuant to 18 CFR 366.4.

Magalie R. Salas,
Secretary.

[FR Doc. E6-9808 Filed 6-21-06; 8:45 am]

BILLING CODE 6717-01-P